DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT:

OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On December 9, 2020, OFAC determined that the property and interests in property subject to U.S. jurisdiction of the following persons are blocked under the relevant sanctions authority listed below.

Individuals

1. SHERMAN, Harry Varney Gboto-Nambi, 17th Street and Chessman Avenue, Sinkor, P.O. Box 10-3218,10, Monrovia, Liberia; 11803 Backus Drive, Bowie, MD 20720-4464, United States; DOB 16 Feb 1953; POB Robertsport, Grand Cape Mount County, Liberia; nationality Liberia; Gender Male; Passport PP0099877 (Liberia) expires 28 May 2025 (individual) [GLOMAG].

Designated pursuant to section 1(a)(ii)(B)(1) of Executive Order 13818 of December 20, 2017, “Blocking the Property of Persons Involved in Serious Human Rights Abuse or Corruption,” 82 FR 60839, 3 CFR, 2018 Comp., p. 399, (E.O. 13818) for being a foreign person who is a current or former government official, or a person acting for or on behalf of such official, who is responsible for or complicit in, or has directly or indirectly engaged in, corruption, including the misappropriation of state assets, the expropriation of private assets for personal gain, corruption related to contracts or the extraction of natural resources, or bribery.

2. MATRAIMOV, Raimbek (a.k.a. MATRAIMOV, Raimbek Ismailovich; a.k.a. MATRAIMOV, Raiymbek; a.k.a. MATRAIMOV, Rayimbek; a.k.a. YSMAIYLOV, Raiym), Osh, Kyrgyzstan; DOB 03 May 1971; POB Agartuu, Kyrgyzstan; nationality Kyrgyzstan; Gender Male; National ID No. 1340572 issued 07 Aug 2010 expires 07 Aug 2029; alt. National ID No. 1877213 (Kyrgyzstan) expires 15 Oct 2030; alt. National ID No. 1825229 (Kyrgyzstan) expires 14 Sep 2030 (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to contracts or the extraction of natural resources, or bribery.

3. KOI, Wan Kuok (a.k.a. KUOK-KUI, Wan; a.k.a. “Broken Tooth”; a.k.a. “Brokentooth”; a.k.a. “GUOJU, Yin”; a.k.a. “KUI, Bung Nga”), Macau; DOB 29 Jul 1955; Gender Male; Passport 31135083 (Portugal) expires 27 Mar 2023 (individual) [GLOMAG].

Designated pursuant to section 1(a)(ii)(C)(1) of E.O. 13818 for being a foreign person who is or has been a leader or official of an entity, including any government entity, that has engaged in, or whose members have engaged in, corruption, including the misappropriation of state assets, the expropriation of private assets for personal gain, corruption related to contracts or the extraction of natural resources, or bribery, relating to the leader's or official's tenure.

Entities:

Dated: December 9, 2020.
Andrea Gacki,
Director, Office of Foreign Assets Control.

[FR Doc. 2020-27458 Filed 12-11-20; 8:45 am]

BILLING CODE 4810-AL-P